FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 020647N.

Name: SJT Trading Corp.

Address: 7382 NW 35th Terr., Ste. 106, Miami, FL 33122.

Date Revoked: May 15, 2009.

Reason: Failed to maintain a valid bond.

License Number: 004670NF.

Name: The Pelixan Group, Inc.

Address: 3405-B NW 72nd Ave., Ste. 111, Miami, FL 33122.

Date Revoked: May 16, 2009 (NVOCC) and May 9, 2009 (OFF).

Reason: Failed to maintain valid bonds.

License Number: 020084N.

Name: Velocity Freight Inc.

Address: 20283 State Rd. 7, Ste. 300, Boca Raton, FL 33498.

Date Revoked: May 15, 2009.

Reason: Failed to maintain a valid bond.

License Number: 017354N.

Name: Wingar Logistics Inc.

Address: 9690 Telstar Ave., Ste. 207, El Monte, CA 91731.

Date Revoked: May 17, 2009.

Reason: Failed to maintain a valid bond.

Sandra L. Kusumoto,
Director, Bureau of Certification and Licensing.

[FR Doc. E9-12961 Filed 6-2-09; 8:45 am]

BILLING CODE 6730-01-P